ELECTION ASSISTANCE COMMISSION

Sunshine Act; Notice of Virtual Public Forum for EAC Standards Board

Date & Time: Monday, May 3, 2010, 9 a.m. EDT through Friday, May 14, 2010, 9 p.m. EDT.

Place: EAC Standards Board Virtual Meeting Room at http://www.eac.gov.

Once at the main page of EAC's Web site, viewers should click the link to the Standards Board Virtual Meeting Room. The virtual meeting room will open on Monday, May 3, 2010, at 9 a.m. EDT and will close on Friday, May 14, 2010, at 9 p.m. EDT. The site will be available 24 hours per day during that 12-day period.

Purpose: The EAC Standards Board will review and provide comment on a draft version of the EAC Research Department's Recounts and Contests study. The draft version contains information about the laws and procedures each States uses to govern recounts, contests, and standards for what constitutes a valid vote. The study includes best practices that States use with respect to recounts and contests. The EAC Standards Board Virtual Meeting Room was established to enable the Standards Board to conduct business in an efficient manner in a public forum, including being able to review and discuss draft documents, when it is not feasible for an in-person board meeting. The Standards Board will not take any votes or propose any resolutions during the 12-day forum of May 3-May 14, 2010. Members will post comments about the draft version of the Recounts and Contests study.

This activity is open to the public. The public may view the proceedings of this special forum by visiting the EAC standards board virtual meeting room at http://www.eac.gov at any time between Monday, May 3, 2010, 9 a.m. EDT and Friday, May 14, 2010, 9 p.m. EDT. The public also may view recounts and contests, which will be posted on EAC's Web site beginning April 26, 2010. The public may file written statements to the EAC standards board at standardsboard@eac.gov and by copying Sharmili Edwards at sedwards@eac.gov. Data on EAC's Web site is accessible to visitors with disabilities and meets the requirements of Section 508 of the Rehabilitation Act.

Person to Contact for Information: Bryan Whitener, Telephone: (202) 566-3100.

Gineen Bresso Beach,
Commissioner, U.S. Election Assistance Commission.

[FR Doc. 2010-8174 Filed 4-6-10; 4:15 pm]

BILLING CODE 6820-KF-P